DEPARTMENT OF COMMERCE

International Trade Administration

[A-570-831]

Fresh Garlic From the People's Republic of China: Notice of Extension of Time Limit for the Final Results of Antidumping Duty Administrative and New Shipper Reviews

AGENCY: Import Administration, International Trade Administration, Department of Commerce.

ACTION: Notice of extension of time limit for the final results of antidumping duty administrative and new shipper reviews.

SUMMARY: The Department of Commerce is extending the time limit for the final results of the administrative and new shipper reviews of the antidumping duty order on fresh garlic from the People's Republic of China until May 17, 2004. This extension applies to the administrative review of two exporters, Jinan Yipin Corporation, Ltd., and Shandong Heze International Trade and Developing Company, and the new shipper reviews of two exporters, Jining Trans-High Trading Company and Zhengzhou Harmoni Spice Co., Ltd. The period of review is November 1, 2001, through October 31, 2002.

EFFECTIVE DATE: February 3, 2004.

FOR FURTHER INFORMATION CONTACT: Susan Lehman or Minoo Hatten, AD/CVD Enforcement 3, Import Administration, International Trade Administration, U.S. Department of Commerce, 14th Street and Constitution Avenue NW., Washington, DC 20230; telephone: (202) 482-0180 and (202) 482-1690, respectively.

Background

On December 26, 2002, the Department of Commerce (the Department) published the Notice of Initiation of Antidumping and Countervailing Duty Administrative Reviews: Fresh Garlic from the People's Republic of China (67 FR 78772), in which it initiated an administrative review of the antidumping duty order on fresh garlic from the People's Republic of China. On January 6, 2003, the Department published the Notice of Initiation of New Shipper Antidumping Duty Reviews: Fresh Garlic from the People's Republic of China (68 FR 542), in which it initiated the new shipper reviews. On March 10, 2003, we aligned the new shipper reviews with the administrative review pursuant to 19 CFR 351.214(j)(3). As such, the time limits for the new shipper reviews were aligned with those for the administrative review. See memorandum to the File from Jennifer Moats entitled “Request for Alignment of Annual and New Shipper Reviews,” dated March 10, 2003. On December 10, 2003, the Department published the Notice of Preliminary Results of Antidumping Duty Administrative Review and New Shipper Reviews: Fresh Garlic from the People's Republic of China (69 FR 68868).

Section 751(a)(3)(A) of the Tariff Act of 1930, as amended (the Act), provides that the Department will issue the final results of an administrative review of an antidumping duty order within 120 days after the date upon which the preliminary determination is published. The Act provides further that the Department may extend that 120-day period to 180 days if it determines that it is not practicable to complete the review within the foregoing time period. Section 751(a)(2)(B)(iv) of the Act also provides that we may extend the deadlines in a new shipper review if we determine that the case is extraordinarily complicated.The Department has determined that the aligned administrative review and new shipper reviews of Jinan Yipin Corporation Ltd., Shandong Heze International Trade and Developing Company, Jining Trans-High Trading Company, and Zhengzhou Harmoni Spice Co., Ltd., are extraordinarily complicated. Some of the companies have yet to be verified, and the Department has been unable, as of yet, to research and conduct a thorough analysis of the matter pertaining to the valuation of the factors of production for those companies. Therefore, because of these complications, it is not practicable to complete the final results by the current deadline of April 8, 2004. Furthermore, there are a number of other complex factual and legal questions which are currently before the agency that relate directly to the assignment of antidumping duty margins in this case. Thus, it is not practicable to complete the administrative review and new shipper reviews within the 120-day period and we require additional time to address these matters.

Therefore, in accordance with sections 751(a)(2)(B)(iv) and 751(a)(3)(A) of the Act, the Department is extending the time limit for the final results by 39 days, until no later than May 17, 2004.

Dated: January 27, 2004.
Jeffrey May,
Deputy Assistant Secretary for AD/CVD Enforcement I.

[FR Doc. 04-2167 Filed 2-2-04; 8:45 am]

BILLING CODE 3510-DS-S